FEDERAL COMMUNICATIONS COMMISSION

Notice of Public Information Collection(s) Approved by the Office of Management and Budget

February 23, 2011.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number.

FOR FURTHER INFORMATION CONTACT: For additional information, please contact Cathy Williams on (202) 418-2918 or via e-mail to: cathy.williams@fcc.gov.

SUPPLEMENTARY INFORMATION:

OMB Control Number: 3060-1144.

OMB Approval Date: February 18, 2011.

Expiration Date: February 28, 2014.

Title: Consumer Survey.

Form Number: Not applicable.

Type of Review: Revision of a currently approved collection.

Respondents: Individuals or households.

Number of Respondents/Responses: 5,000 respondents, 5,000 responses.

Estimated Time per Response: .25 hours (15 minutes).

Frequency of Response: One-time reporting requirement.

Total Annual Burden: 1,250 hours.

Nature of Response: Voluntary. The statutory authority for this collection of information is contained in Section 202(h) of the Telecommunications Act of 1996.

Nature and Extent of Confidentiality: There is no need for confidentiality with this information collection.

Privacy Act Impact Assessment: No personally identifying information will be transmitted to the Commission from the survey contractor as a matter of vendor policy.

Needs and Uses: The information contained under OMB control number 3060-1144 is necessary to prepare one of the Commission's media ownership studies, Consumer Valuation of Media as a Function of Local Market Structure. This information collection is critical to the development and completion of the media ownership rules proceeding required pursuant to Section 202(h) of the Telecommunications Act of 1996. Specifically, the Commission is required to review its media ownership rules quadrennially to determine whether its rules “are necessary in the public interest as the result of competition.” The Commission is then required to repeal or modify any regulation it determines no longer to serve the public interest. With the Notice of Inquiry (NOI) released on May 25, 2010, the Commission launched its fifth proceeding pursuant to the statutory mandate requiring that the media ownership rules be reviewed. Subsequently, in June 2010, the Commission's Media Bureau sought Requests for Quotation (RFQ) for nine studies to be incorporated as part of the 2010 Quadrennial Review. The survey that is the subject of this review, the Consumer Survey, was included in the RFQ and a bid was selected on September 30, 2010. The Consumer Survey will be used in a determination to define a performance metric related to the public interest goals the Commission seeks to promote through its media ownership rules. The Consumer Survey will also be used to examine the impact of local media market structure on consumer satisfaction with available broadcast radio and television service. The Consumer Survey will collect information regarding how much time people spend with various media and how people get news and information. The Survey will ask respondents to rate, on a numerical scale, their current satisfaction with the overall local media environment and with components such as broadcast television, broadcast radio, and newspapers. The Survey will also include questions asking respondents to rate their current satisfaction with the local news, local public affairs, and other locally oriented media content. This Survey will be distributed via the Internet to a nationwide sample of consumers, and the Commission anticipates approximately 5,000 responses to the survey. Based on the results of the Survey, the contractor will conduct a study to examine the impact of local media market structure on consumer satisfaction with available broadcast radio and television service. This collection of data and resulting study will enable the Commission to adequately review the media ownership rules and determine whether the rules are necessary in the public interest as a result of competition, as required by Congress. The Office of Management and Budget approved this collection on February 18, 2011.

Federal Communications Commission.
Bulah P. Wheeler,
Deputy Manager, Office of the Secretary, Office of Managing Director.

[FR Doc. 2011-4700 Filed 3-2-11; 8:45 am]

BILLING CODE 6712-01-P